DEPARTMENT OF TRANSPORTATION

National Highway Traffic Safety Administration

Petition for Exemption From the Federal Motor Vehicle Theft Prevention Standard; Nissan North America, Inc

AGENCY: National Highway Traffic Safety Administration (NHTSA), Department of Transportation (DOT).

ACTION: Grant of petition for exemption.

SUMMARY: This document grants in full Nissan North America, Inc.'s, (Nissan) petition for exemption of the model year 2020 Versa vehicle line from the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with the 2020 model year (MY).

FOR FURTHER INFORMATION CONTACT: Ms. Carlita Ballard, Office of International Policy, Fuel Economy and Consumer Programs, National Highway Traffic Safety Administration, 1200 New Jersey Avenue SE, West Building, Room W43-439, Washington, DC 20590. Ms. Ballard's telephone phone number is 202-366-5222.

SUPPLEMENTARY INFORMATION: In a petition dated October 1, 2018, Nissan requested an exemption from the parts-marking requirements of the Theft Prevention Standard for the Versa vehicle line beginning with MY 2020. The petition requested an exemption from parts-marking pursuant to 49 CFR part 543, “Exemption from Vehicle Theft Prevention Standard”, based on the installation of an antitheft device as standard equipment for the entire vehicle line.

Under 49 CFR part 543.5(a), a manufacturer may petition NHTSA to grant an exemption for one vehicle line per model year. In its petition, Nissan provided a detailed description and diagram of the identity, design, and location of components of the antitheft device for the Versa vehicle line. Nissan stated the MY 2020 Versa vehicle line will be installed with a passive, electronic engine immobilizer antitheft device as standard equipment. Key components of the antitheft device will include an engine immobilizer, engine control module (ECM), body control module (BCM), security indicator light, immobilizer antenna, Key FOB, and a specially-designed key with a microchip. Nissan stated its vehicle's security indicator light will be a warning to a potential thief and an added deterrence to a thief's decision to enter the vehicle. However, Nissan will not provide any visible or audible indication of unauthorized vehicle entry (i.e., flashing lights and horn alarm) on its Versa vehicle line.

Nissan's submission is considered a complete petition as required by 49 CFR 543.7, in that it meets the general requirements contained in § 543.5 and the specific content requirements of § 543.6.

In addressing the specific content requirements of § 543.6, Nissan provided information on the reliability and durability of its proposed device. Nissan stated its antitheft device is tested for specific parameters to ensure its reliability and durability. Nissan provided a detailed list of tests conducted and believes the device is reliable and durable since the device complied with its specified requirements for each test. Nissan further stated its immobilizer device satisfies the European Directive ECE R116, including requirements for tamper resistance. Nissan also stated all control units for the device are located inside the vehicle, providing further protection from unauthorized accessibility of the device from outside the vehicle.

Nissan stated activation of its immobilizer device occurs automatically when the ignition switch is turned to the “OFF” position, which then causes the security indicator light to flash notifying the operator that the immobilizer device is activated. Nissan stated the immobilizer device prevents normal operation of the vehicle without using a specially-designed microchip key with a pre-registered “Key-ID.” Nissan also stated that, when the brake and clutch is on and the key FOB is near the engine start switch, the Key-ID is scanned via the immobilizer antenna. The microchip in the key transmits the Key-ID to the BCM, beginning an encrypted communication process. If the Key-ID and encrypted code are correct, the ECM will allow the engine to keep running and the driver to operate the vehicle. If the Key-ID and encrypted code are not correct, the ECM will cause the engine to shut down.

Nissan stated the proposed device is functionally equivalent to the antitheft device installed on the MY 2011 Nissan Cube vehicle line, which was granted a parts-marking exemption by the agency on April 14, 2010 (75 FR 19458).

Nissan provided data on the effectiveness of the antitheft device installed on its Versa vehicle line in support of the belief its antitheft device will be highly effective in reducing and deterring theft. Nissan referenced the National Insurance Crime Bureau's data, which it stated showed a 70% reduction in theft when comparing MY 1997 Ford Mustangs (with a standard immobilizer) to MY 1995 Ford Mustangs (without an immobilizer). Nissan also referenced the Highway Loss Data Institute's data, which reported BMW vehicles experienced theft loss reductions resulting in a 73% decrease in relative claim frequency and a 78% lower average loss payment per claim for vehicles equipped with an immobilizer. Additionally, Nissan stated theft rates for its Pathfinder vehicle line experienced reductions from MY 2000 to 2001 and subsequent years with implementation of an engine immobilizer device as standard equipment. Specifically, Nissan stated the agency's theft rate data for MY's 2001 through 2006 reported theft rates of 1.9146, 1.8011, 1.1482, 0.8102, 1.7298, and 1.3474 respectively for the Nissan Pathfinder.

Nissan compared its device to other similar devices previously granted exemptions by the agency. Specifically, it referenced the agency's grant of full exemptions to General Motors Corporation for its Buick Riviera and Oldsmobile Aurora vehicle lines (58 FR 44872, August 25, 1993) and its Cadillac Seville vehicle line (62 FR 20058, April 24, 1997) from the parts-marking requirements of the theft prevention standard. Nissan stated it believes since its device is functionally equivalent to other comparable manufacturer's devices that have been granted parts-marking exemptions by the agency, along with the evidence of reduced theft rates for vehicle lines equipped with similar devices and advanced technology of transponder electronic security, the Nissan immobilizer device will have the potential to achieve the level of effectiveness equivalent to those vehicles already exempted by the agency. The agency agrees the device is substantially similar to devices installed on other vehicle lines for which the agency has already granted exemptions.

Based on the supporting evidence submitted by Nissan, the agency believes the antitheft device for the Versa vehicle line is likely to be as effective in reducing and deterring motor vehicle theft as compliance with the parts-marking requirements of the Theft Prevention Standard (49 CFR part 541). The agency concludes the device will provide four of the five types of performance listed in § 543.6(a)(3): Promoting activation; preventing defeat or circumvention of the device by unauthorized persons; preventing operation of the vehicle by unauthorized entrants; and ensuring the reliability and durability of the device.

Pursuant to 49 U.S.C. 33106 and 49 CFR 543.7(b), the agency grants a petition for exemption from the parts-marking requirements of Part 541 either in whole or in part, if it determines that, based upon substantial evidence, the standard equipment antitheft device is likely to be as effective in reducing and deterring motor vehicle theft as compliance with the parts-marking requirements of Part 541. The agency finds Nissan has provided adequate reasons for its belief the antitheft device for the Versa vehicle line is likely to be as effective in reducing and deterring motor vehicle theft as compliance with the parts-marking requirements of the Theft Prevention Standard (49 CFR part 541). This conclusion is based on the information Nissan provided about its device.

The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Nissan decides not to use the exemption for this line, it must formally notify the agency. If such a decision is made, the line must be fully marked according to the requirements under 49 CFR parts 541.5 and 541.6 (marking of major component parts and replacement parts).

NHTSA notes if Nissan wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests if the manufacturer contemplates making any changes, the effects of which might be characterized as de minimis, it should consult the agency before preparing and submitting a petition to modify.

For the foregoing reasons, the agency hereby grants in full Nissan's petition for exemption for the model year 2020 Nissan Versa vehicle line from the parts-marking requirements of 49 CFR part 541.

Issued in Washington, DC, under authority delegated in 49 CFR part 1.95 and 501.8.
Raymond R. Posten,
Associate Administrator for Rulemaking.

[FR Doc. 2019-05448 Filed 3-21-19; 8:45 am]

BILLING CODE 4910-59-P